FEDERAL MARITIME COMMISSION

Sunshine Act; Meeting

Time and Date: 10 a.m.—May 6, 2003.

Place: 800 North Capitol Street, NW., First Floor Hearing Room, Washington, DC.

Status: Closed.

Matters to be Considered: Fact Finding Investigation No. 25—Practices of Transpacific Stabilization Agreement Members Covering the 2002-2003 Service Contract Season.

Contact Person for More Information: Bryant L. VanBrakle, Secretary, (202) 523-5725.

Bryant L. VanBrakle,
Secretary.

[FR Doc. 03-10041 Filed 4-18-03; 2:25 am]

BILLING CODE 6730-01-M